DEPARTMENT OF ENERGY

Federal Energy Regulatory Commission

[Docket No. CP06-34-000]

Transcontinental Gas Pipe Line Corporation; Notice of Filing

December 16, 2005.

Take notice that on December 7, 2005, Transcontinental Gas Pipe Line Corporation (Transco), Post Office Box 1396, Houston, Texas 77251, filed an abbreviated application, pursuant to Section 7(c) of the Natural Gas Act (NGA) and Part 157 of the Commission's Rules and Regulations for a certificate of public convenience and necessity authorizing Transco to construct and operate its Leidy to Long Island Expansion Project (Project). The Project is an expansion of Transco's existing pipeline system under which Transco will provide 100,000 dekatherms per day (dt/day) of incremental firm transportation service to KeySpan Gas East Corporation (KeySpan).

The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866)208-3676, or for TTY, contact (202) 502-8659.

Transco requests authorization to construct and operate the following facilities:

• 3.41 miles of 42-inch pipeline loop from Mile Post 131.19 to Mile Post 134.60 on Transco's existing Leidy Line in Lycoming County, Pennsylvania (Hughesville Loop);

• 5.25 miles of 42-inch pipeline loop from Mile Post 28.02 to Mile Post 33.27 on Transco's existing Leidy Line in Luzerne County, Pennsylvania (Berwick Loop);

• 3.23 miles of 42-inch pipeline loop from Mile Post 1786.55 to Mile Post 1789.78 on Transco's existing Mainline “B” in Somerset County, New Jersey (Neshanic Loop);

• The replacement of approximately 2.45 miles of 42-inch pipeline and the uprating of approximately 3.53 miles of 42-inch pipeline between Mile Post 8.50 and Mile Post 12.03 on Transco's existing onshore portion of the Lower New York Bay Mainline “C” in Middlesex County, New Jersey (Morgan Replacement Segment);

• The uprating of 33.66 miles of Transco's existing 26-inch Lower New York Bay Extension, from Mile Post 12.05 to Mile Post 45.71; Transco's Lower New York Bay Extension begins onshore in Middlesex County, New Jersey, continues offshore across Monmouth County, New Jersey and Queens County, New York, and terminates on Long Island, Nassau County, New York (Lower Bay Uprate);

• The installation of two 5,000 HP electric motor-driven compressor units (10,000 total HP) at a new compressor station in Middlesex County, New Jersey (Compressor Station No. 207); and Modifications to: Transco's Delaware Regulator Station in Northampton County, Pennsylvania; Morgan Regulator Station in Middlesex County, New Jersey; and Long Beach Meter Station in Nassau County, New York.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's web site under the “e-Filing” link. The Commission strongly encourages electronic filings.

Comment Date: January 5, 2006.

Magalie R. Salas,
Secretary.

[FR Doc. E5-7904 Filed 12-27-05; 8:45 am]

BILLING CODE 6717-01-P